DEPARTMENT OF ENERGY

Federal Energy Regulatory Commission

[Project No. 13283-000]

The Nevada Hydro Company, Inc.; Notice of Preliminary Permit Application Accepted for Filing and Soliciting Comments, Motions To Intervene, and Competing Applications

April 13, 2009.

On September 2, 2008, The Nevada Hydro Company, Inc. filed an application for a preliminary permit, pursuant to section 4(f) of the Federal Power Act, proposing to study the feasibility of the 600-megawatt (MW) River Mountain Pumped Storage Project, located on Lake Dardanelle on the Arkansas River in Logan County, Arkansas. The sole purpose of a preliminary permit, if issued, is to grant the permit holder priority to file a license application during the permit term. A preliminary permit does not authorize the permit holder to perform any land disturbing activities or otherwise enter upon lands or waters owned by others without the owners' express permission.

The proposed project works consist of: (a) A 183-acre upper reservoir, lined with an impermeable membrane, having 11,580 acre-feet gross storage capacity, excavated within a 225-acre site and formed by a rockfill embankment with a height ranging from 25 to 120 feet above existing topography; (b) a reinforced concrete intake/outlet structure in the upper reservoir; (c) a 30-foot diameter, concrete-lined vertical shaft approximately 680 feet long connecting the upper reservoir's intake and outlet structure to an underground, horizontal power tunnel; (d) a 30-foot-diameter, concrete-lined, power tunnel that extends 1,250 feet from the vertical shaft to the penstocks; (e) three 16-foot diameter penstocks approximately 450 feet long, 250 feet of which are steel-lined; (f) an underground powerhouse, approximately 560 feet below the ground surface, containing three reversible pump-turbine generator units, each nominally rated at 200 MW, generating with up to 13,200 cfs and pumping with up to 10,560 cfs; (g) an underground transformer gallery, surge chamber, access tunnel and vent shaft located near the powerhouse; (h) a horseshoe-shaped tailrace tunnel, 40 feet high by 40 feet wide extending 4,800 feet from the powerhouse to a submerged intake/outlet structure in Lake Dardanelle; (i) a 500-kV transmission line originating from the powerhouse and extending approximately 1.8 miles to an existing 500-kV transmission line owned by Arkansas Power and Light; (j) approximately five miles of new project access roads; and appurtenant equipment and facilities. The project would generate approximately 6,000 megawatt-hours per day. The project would utilize the 34,300-acre Lake Dardanelle, managed by the U.S. Army Corps of Engineers for navigation, recreation, and hydropower generation, as the lower reservoir, however, Lake Dardanelle would not be a licensed facility of the proposed project.

Applicant Contact: Rexford Wait, The Nevada Hydro Company, Inc., 2416 Cades Way, Vista, CA 92083; phone 760-599-0086; fax 760-599-1815.

FERC Contact: Monte TerHaar, 202-502-6035.

Deadline for filing comments, motions to intervene, competing applications (without notices of intent), or notices of intent to file competing applications: 60 days from the issuance of this notice. Comments, motions to intervene, notices of intent, and competing applications may be filed electronically via the Internet. See 18 CFR 385.2001(a)(1)(iii) and the instructions on the Commission's Web site under the “e-Filing” link. If unable to be filed electronically, documents may be paper-filed. To paper-file, an original and eight copies should be mailed to: Kimberly D. Bose, Secretary, Federal Energy Regulatory Commission, 888 First Street, NE., Washington, DC 20426. For more information on how to submit these types of filings please go to the Commission's Web site located at http://www.ferc.gov/filing-comments.asp. More information about this project can be viewed or printed on the “eLibrary” link of Commission's Web site at http://www.ferc.gov/docs-filing/elibrary.asp. Enter the docket number (P-13283) in the docket number field to access the document. For assistance, call toll-free 1-866-208-3372.

Kimberly D. Bose,
Secretary.

[FR Doc. E9-8955 Filed 4-17-09; 8:45 am]

BILLING CODE 6717-01-P